DEPARTMENT OF COMMERCE

Foreign-Trade Zones Board

[Order No. 1146]

Approval for Extension of Manufacturing Authority Within Foreign-Trade Zone 44; Quest International Fragrances USA, Inc. (Flavor and Fragrance Products), Mt. Olive, NJ

Pursuant to its authority under the Foreign-Trade Zones (FTZ) Act of June 18, 1934, as amended (19 U.S.C. 81a-81u), the Foreign-Trade Zones Board (the Board) adopts the following Order:

Whereas, the New Jersey Commerce and Economic Growth Commission, grantee of FTZ 44, has requested an extension of authority on behalf of Quest International Fragrances USA, Inc., to manufacture flavor and fragrance products under FTZ procedures within FTZ 44, Mt Olive, New Jersey (FTZ Docket 39-2000, filed 7/18/00);

Whereas, notice inviting public comment has been given in the Federal Register (65 FR 47376, 8/2/00);

Whereas, pursuant to Section 400.32(b)(1) of the FTZ Board regulations (15 CFR Part 400), the Secretary of Commerce's delegate on the FTZ Board has the authority to act for the Board in making such decisions regarding manufacturing authority within existing zones when the proposed activity is the same, in terms of products involved, to activity recently approved by the Board and similar in circumstances (15 CFR § 400.32(b)(1)(i)); and,

Whereas, the Board adopts the findings and recommendations of the examiner's report, and finds that the requirements of the FTZ Act and Board's regulations are satisfied, and that the proposal is in the public interest;

Now, Therefore, the Board hereby orders:

The application to extend manufacturing authority within FTZ 44 on behalf of Quest International Fragrances U.S.A., Inc., is approved, subject to the Act and the Board's regulations, including Section 400.28.

Signed at Washington, DC, this 15th day of March 2001.
Timothy J. Hauser,
Acting Under Secretary for International Trade, Alternate Chairman, Foreign-Trade Zones Board.

[FR Doc. 01-7559 Filed 3-26-01; 8:45 am]

BILLING CODE 3510-DS-P